DEPARTMENT OF TRANSPORTATION

Federal Aviation Administration

Agency Information Collection Activities: Requests for Comments; Clearance of Renewed Approval of Information Collection: Agricultural Aircraft Operator Certificate Application

AGENCY: Federal Aviation Administration (FAA), DOT.

ACTION: Notice and request for comments.

SUMMARY: In accordance with the Paperwork Reduction Act of 1995, FAA invites public comments about our intention to request the Office of Management and Budget (OMB) approval to renew an information collection. Standards have been established for the certification of agricultural aircraft. The information collected shows applicant compliance and eligibility for certification by FAA.

DATES: Written comments should be submitted by August 11, 2014.

FOR FURTHER INFORMATION CONTACT: Kathy DePaepe at (405) 954-9362, or by email at: Kathy.DePaepe@faa.gov.

SUPPLEMENTARY INFORMATION: OMB Control Number: 2120-0049.

Title: Agricultural Aircraft Operator Certificate Application.

Form Numbers: FAA Form 8710-3.

Type of Review: Renewal of an information collection.

Background: 14 CFR part 137 prescribes requirements for issuing agricultural aircraft operator certificates and for appropriate operating rules. The information on FAA Form 8710-3, Agricultural Aircraft Operator Certificate Application, is required from applicants who wish to be issued a commercial or private agricultural aircraft operator certificate. Aviation Safety Inspectors in FAA Flight Standards District Offices (FSDO) review the submitted information to determine certificate eligibility.

Respondents: Approximately 2,950 applicants.

Frequency: Information is collected on occasion.

Estimated Average Burden per Response: 1.3 hours.

Estimated Total Annual Burden: 10,275 hours.

ADDRESSES: Send comments to the FAA at the following address: Ms. Kathy DePaepe, Room 126B, Federal Aviation Administration, ASP-110, 6500 S. MacArthur Blvd., Oklahoma City, OK 73169.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on June 5, 2014.
Albert R. Spence,
FAA Assistant Information Collection Clearance Officer, IT Enterprises Business Services Division, ASP-110.

[FR Doc. 2014-13689 Filed 6-11-14; 8:45 am]

BILLING CODE 4910-13-P